DEPARTMENT OF COMMERCE

National Oceanic and Atmospheric Administration

[I.D. 051005B]

Marine Fisheries Advisory Committee; Public Meetings

AGENCY: National Marine Fisheries Service (NMFS), National Oceanic and Atmospheric Administration (NOAA), Commerce.

ACTION: Notice of public meetings.

SUMMARY: Notice is hereby given of meetings of the Marine Fisheries Advisory Committee (MAFAC). This will be the second of two meetings held in fiscal year 2005 to review and advise on management policies for living marine resources. Agenda topics are provided under the SUPPLEMENTARY INFORMATION section of this notice.

DATES: The meetings will be held June 7-9, 2005, from 9 a.m. to 5 p.m. and June 10, 2005, from 9 a.m. to 12 p.m.

ADDRESSES: The meetings will be held at the Phoenix Park Hotel 520 North Capitol Street, N.W., Washington, D.C. 20001.

Requests for special accommodations may be directed to MAFAC, Office of Constituent Services, National Marine Fisheries Service, 1315 East-West Highway #9508, Silver Spring, MD 20910.

FOR FURTHER INFORMATION CONTACT: Laurel Bryant, MAFAC Executive Director; telephone: (301) 713-2379 x171.

SUPPLEMENTARY INFORMATION: As required by section 10(a)(2) of the Federal Advisory Committee Act, 5 U.S.C. App. (1982), notice is hereby given of meetings of MAFAC. MAFAC was established by the Secretary of Commerce (Secretary) on February 17, 1972, to advise the Secretary on all living marine resource matters that are the responsibility of the Department of Commerce. This Committee advises and reviews the adequacy of living marine resource policies and programs to meet the needs of commercial and recreational fisheries, and environmental, state, consumer, academic, tribal, and other national interests.

Matters to be Considered

June 7, 2005

General overview and full committee discussion regarding status of the U.S. Ocean Action Plan initiative and offshore aquaculture legislation. The Committee will also spend time on strategic planning and committee organization.

June 8, 2005

The Committee will receive briefings on status of ecosystem approach to managing fisheries, strengthening science in management, offshore aquaculture, and status updates on reauthorization of the Magnuson-Stevens Fishery Conservation and Management Act. The Committee will then adjourn into breakout groups to take up these issues in more depth.

June 9, 2005

The full Committee will reconvene to receive and discuss breakout group reports.

June 10, 2005

The full committee will meet to continue any necessary discussions and actions on the issue reports, and complete any unfinished administrative issues. Committee will adjourn sine day on completion of business.

Time will be set aside for public comment on agenda items.

Special Accommodations

These meetings are physically accessible to people with disabilities. Requests for sign language interpretation or other auxiliary aids should be directed to MAFAC (see ADDRESSES).

Dated: May 12, 2005.
Gordon J. Helm
Acting Director, Office of Constituent Services, National Marine Fisheries Service.

[FR Doc. 05-9927 Filed 5-17-05; 8:45 am]

BILLING CODE 3510-22-S